ENVIRONMENTAL PROTECTION AGENCY

[CA305-0457; FRL-7668-2]

Adequacy Status of the Southeast Desert and Ventura County, CA; 1-Hour Ozone Progress and Attainment Plans for Transportation Conformity Purposes

AGENCY: Environmental Protection Agency (EPA).

ACTION: Notice of adequacy determination.

SUMMARY: In this notice, EPA is notifying the public that we have found that the motor vehicle emissions budgets contained in California State Implementation Plan (SIP) submittals for progress and attainment of the 1-hour ozone National Ambient Air Quality Standards (NAAQS) in the Southeast Desert and Ventura County nonattainment areas are adequate for transportation conformity purposes. As a result of our finding, the Southern California Association of Governments, the Federal Highway Administration, and the Federal Transit Authority must use the motor vehicle emissions budgets from the submitted plan for future conformity determinations.

DATES: This determination is effective June 14, 2004.

FOR FURTHER INFORMATION CONTACT: The finding is available at EPA's conformity Web site: http://www.epa.gov/otaq/transp/conform/reg9sips.htm. You may also contact Dave Jesson, U.S. EPA, Region IX, Air Division, AIR-2, 75 Hawthorne Street, San Francisco, CA 94105-3901; (415) 972-3957 or jesson.david@epa.gov.

SUPPLEMENTARY INFORMATION: This notice announces our finding that the following emissions budgets contained in revisions to the 1-hour ozone progress and attainment SIP for the Southeast Desert Modified AQMA Area, submitted by the California Air Resources Board (CARB) on May 4, 2004, are adequate for transportation conformity purposes: 1-hour ozone budgets for volatile organic compounds (VOC) and nitrogen oxides (NOX) for the years 2005 and 2007. These budgets relate to the 2004 update to the Southeast Desert Ozone Attainment Plan, which consists of: (1) The Mojave Desert District Final 2004 Ozone Attainment Plan, adopted on April 26, 2004; (2) the 2004 Antelope Valley District Ozone Attainment Plan, adopted on April 20, 2004; and (3) the Coachella Valley Ozone Attainment Demonstration in the 2003 South Coast Air Quality Management Plan, adopted on August 1 and November 7, 2003.

This notice also announces our finding that the 2005 VOC and NOX emissions budgets contained in revisions to the 1-hour ozone progress and attainment SIP for Ventura County, submitted by CARB on April 21, 2004, are adequate for transportation conformity purposes. These budgets are included in the Ventura County 2004 Air Quality Management Plan Revision adopted on April 13, 2004.

EPA Region IX made these findings in letters to CARB on May 21, 2004. We are also announcing these findings on our conformity Web site: http://www.epa.gov/otaq/transp/conform/reg9sips.htm.

Transportation conformity is required by section 176(c) of the Clean Air Act. Our conformity rule requires that transportation plans, programs, and projects conform to state air quality implementation plans (SIPs) and establishes the criteria and procedures for determining whether or not they conform. Conformity to a SIP means that transportation activities will not produce new air quality violations, worsen existing violations, or delay timely attainment of the national ambient air quality standards.

The criteria by which we determine whether a SIP's motor vehicle emissions budgets are adequate for conformity purposes are outlined in 40 CFR 93.118(e)(4). One of these criteria is that the plan provide for attainment or maintenance (as appropriate) of the relevant ambient air quality standard. We have preliminarily determined that the Southeast Desert and Ventura County SIP submittals provide for progress and attainment of the 1-hour ozone NAAQS, and that the budgets associated with the plans are consistent with the plan and, therefore, can be found adequate.

We have described our process for determining the adequacy of submitted SIP budgets in guidance (May 14, 1999, memo titled “Conformity Guidance on Implementation of March 2, 1999, Conformity Court Decision”). We followed this guidance in making our adequacy determination on the budgets in the Southeast Desert and Ventura County SIP submittals.

Authority: 42 U.S.C. 7401-7671q.

Dated: May 21, 2004.
Thomas Huetteman,
Acting Regional Administrator, Region IX.

[FR Doc. 04-12274 Filed 5-27-04; 8:45 am]

BILLING CODE 6560-50-P